DEPARTMENT OF ENERGY

Federal Energy Regulatory Commission

Combined Notice of Filings #1

Take notice that the Commission received the following electric corporate filings:

Docket Numbers: EC25-59-000.

Applicants: Longview Power, LLC.

Description: Application for Authorization Under Section 203 of the Federal Power Act of Longview Power, LLC.

Filed Date: 2/26/25.

Accession Number: 20250226-5116.

Comment Date: 5 p.m. ET 3/19/25.

Take notice that the Commission received the following electric rate filings:

Docket Numbers: ER11-4436-009; ER10-2502-011; ER10-2473-010.

Applicants: Cheyenne Light, Fuel and Power Company, Black Hills/Colorado Electric Utility Company, LP, Black Hills Power, Inc.

Description: Supplement to 08/01/2023, Notice of Non-Material Change in Status of Black Hills Colorado Electric, LLC, et al.

Filed Date: 2/25/25.

Accession Number: 20250225-5255.

Comment Date: 5 p.m. ET 3/18/25.

Docket Numbers: ER12-524-005.

Applicants: Longview Power, LLC.

Description: Compliance filing: Informational Filing Regarding Upstream Transfer of Ownership to be effective N/A.

Filed Date: 2/26/25.

Accession Number: 20250226-5180.

Comment Date: 5 p.m. ET 3/19/25.

Docket Numbers: ER24-2091-001.

Applicants: Paxton BESS 1 LLC.

Description: Notice of Non-Material Change in Status of Paxton BESS 1 LLC.

Filed Date: 2/25/25.

Accession Number: 20250225-5256.

Comment Date: 5 p.m. ET 3/18/25.

Docket Numbers: ER25-868-001.

Applicants: Michigan Electric Transmission Company, LLC.

Description: Tariff Amendment: 2025-02-26_SA 1926 METC-CE Sub 11th Rev DTIA to be effective 1/1/2025.

Filed Date: 2/26/25.

Accession Number: 20250226-5082.

Comment Date: 5 p.m. ET 3/19/25.

Docket Numbers: ER25-1409-000.

Applicants: Sky Ranch Energy Storage II, LLC.

Description: 205(d) Rate Filing: Application for Market-Based Rate Authorization—Sky Ranch Energy Storage II to be effective 4/27/2025.

Filed Date: 2/25/25.

Accession Number: 20250225-5234.

Comment Date: 5 p.m. ET 3/18/25.

Docket Numbers: ER25-1410-000.

Applicants: Route 66 Energy Storage, LLC.

Description: 205(d) Rate Filing: Application for Market-Based Rate Authorization—Route 66 Energy Storage to be effective 4/27/2025.

Filed Date: 2/25/25.

Accession Number: 20250225-5237.

Comment Date: 5 p.m. ET 3/18/25.

Docket Numbers: ER25-1411-000.

Applicants: Hornshadow Solar, LLC.

Description: Initial rate filing: Filing of Shared Facilities Agreement and Request for Waivers to be effective 3/2/2025.

Filed Date: 2/26/25.

Accession Number: 20250226-5034.

Comment Date: 5 p.m. ET 3/19/25.

Docket Numbers: ER25-1412-000.

Applicants: Hornshadow Solar 2, LLC.

Description: Initial rate filing: Filing of Shared Facilities Agreement and Request for Waivers to be effective 3/2/2025.

Filed Date: 2/26/25.

Accession Number: 20250226-5040.

Comment Date: 5 p.m. ET 3/19/25.

Docket Numbers: ER25-1413-000.

Applicants: Midcontinent Independent System Operator, Inc.

Description: 205(d) Rate Filing: 2025-02-26_SA 3746 Termination of METC-Cereal City Solar E&P (J1430) to be effective 2/27/2025.

Filed Date: 2/26/25.

Accession Number: 20250226-5060.

Comment Date: 5 p.m. ET 3/19/25.

Docket Numbers: ER25-1414-000.

Applicants: Midcontinent Independent System Operator, Inc.

Description: 205(d) Rate Filing: 2025-02-26_SA 3657 Termination of METC-Freshwater Solar E&P (J1379) to be effective 2/27/2025.

Filed Date: 2/26/25.

Accession Number: 20250226-5062.

Comment Date: 5 p.m. ET 3/19/25.

Docket Numbers: ER25-1415-000.

Applicants: Lighthouse Arthur Kill, LLC.

Description: Compliance filing: Notice of Succession to be effective 2/27/2025.

Filed Date: 2/26/25.

Accession Number: 20250226-5120.

Comment Date: 5 p.m. ET 3/19/25.

Docket Numbers: ER25-1416-000.

Applicants: Arizona Public Service Company.

Description: 205(d) Rate Filing: Service Agreement No. 430—E&P w/Harquahala Sun 5 to be effective 1/28/2025.

Filed Date: 2/26/25.

Accession Number: 20250226-5123.

Comment Date: 5 p.m. ET 3/19/25.

Docket Numbers: ER25-1417-000.

Applicants: Duke Energy Carolinas, LLC.

Description: Tariff Amendment: DEC-SCPSA Termination of RS No. 637 to be effective 4/28/2025.

Filed Date: 2/26/25.

Accession Number: 20250226-5143.

Comment Date: 5 p.m. ET 3/19/25.

Docket Numbers: ER25-1418-000.

Applicants: Duke Energy Florida, LLC.

Description: 205(d) Rate Filing: DEF-Orange Cogen Reimbursement Agmt RS No. 438 to be effective 5/1/2025.

Filed Date: 2/26/25.

Accession Number: 20250226-5160.

Comment Date: 5 p.m. ET 3/19/25.

Docket Numbers: ER25-1419-000.

Applicants: Duke Energy Carolinas, LLC.

Description: 205(d) Rate Filing: DEC-SCPSA Dynamic Transfer Agmt RS No. 696 to be effective 5/1/2025.

Filed Date: 2/26/25.

Accession Number: 20250226-5170.

Comment Date: 5 p.m. ET 3/19/25.

Docket Numbers: ER25-1420-000.

Applicants: Duke Energy Carolinas, LLC.

Description: 205(d) Rate Filing: DEC-SCPSA Reimbursement Agmt RS No. 689 to be effective 5/1/2025.

Filed Date: 2/26/25.

Accession Number: 20250226-5188.

Comment Date: 5 p.m. ET 3/19/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 26, 2025.
Carlos D. Clay,
Deputy Secretary.

[FR Doc. 2025-03445 Filed 3-3-25; 8:45 am]

BILLING CODE 6717-01-P